DEPARTMENT OF DEFENSE

Department of the Army

Intent To Grant an Exclusive or Partially Exclusive License to ANP Technologies, Inc.

AGENCY: Department of the Army, DoD.

ACTION: Notice of intent to license.

SUMMARY: In compliance with 37 CFR 404 et seq., the Department of the Army hereby gives notice of its intent to grant to ANP Technologies, Inc., of 1201 Technology Drive Aberdeen, MD 21001, an exclusive license relative to a U.S. Army Research Laboratory patent application entitled “Compositions and Methods for Enhancing Bioassay Performance Through Nanomanipulation”, Yin, et al., filed on August 27, 2001. Anyone wishing to object to the granting of this license has 15 days to file written objections along with supporting evidence, if any.

DATES: File written objections by September 2, 2003.

FOR FURTHER INFORMATION CONTACT: Michael D. Rausa, U.S. Army Research Laboratory, Office of Research and Technology Applications, ATTN: AMSRL-DP-T/Bldg. 459, Aberdeen Proving Ground, MD 21005-5425, telephone: (410) 278-5028.

Luz D. Ortiz,
Army Federal Register Liaison Officer.

[FR Doc. 03-20911 Filed 8-14-03; 8:45 am]

BILLING CODE 3710-08-M